DEPARTMENT OF AGRICULTURE

Forest Service

Giant Sequoia National Monument Scientific Advisory Board Meeting

AGENCY: Forest Service, USDA.

ACTION: Notice of meeting.

SUMMARY: In accordance with the Presidential Proclamation, Establishment of the Giant Sequoia National Monument (Proclamation 7295 of April 15, 2000), and the Federal Advisory Committee Act (Pub. L. 92-463), the Giant Sequoia National Monument Scientific Advisory Board was chartered. The purpose of the board is to provide scientific guidance to the Secretary of Agriculture through the U.S. Department of Agriculture Forest Service (USDA) during the development of the management plan and its environmental impact statement for the Giant Sequoia National Monument. The board represents a range of disciplines spanning the physical, biological, and social sciences. At the first meeting, the board will review the charter, consider operating procedures; designate a chairperson; and discuss the proclamation, including the status of the management planning process. While all Scientific Advisory Board meetings are open to public attendance, the board will determine procedures for public participation.

DATES: The meeting will held June 12 and 13, 2001, beginning each day at 8 a.m. and ending at 4 p.m.

ADDRESSES: The meeting will be held at the Hume Lake Christian Camp, 64144 Hume Lake Road, Hume Lake, California 93628. A field visit to parts of the Giant Sequoia National Monument and the Sequoia-Kings Canyon National Parks will be held as part of the meeting.

FOR FURTHER INFORMATION CONTACT: To receive further information contact Arthur L. Gaffrey, Designated Federal Official to the Scientific Advisory Board, telephone: (559) 784-1500, extension 1111.

SUPPLEMENTARY INFORMATION: An agenda for the meeting can be requested from the Designated Federal Official prior to the meeting. Written comments for the Scientific Advisory Board may be submitted to Forest Supervisor Arthur L. Gaffrey, Sequoia National Forest, 900 West Grand Avenue, Porterville, CA 93257. Members at this time include:

Dr. Paul E. Waggoner, Connecticut Agricultural Experiment Station;

Dr. George M. Woodell, Woods Hole Research Center;

Dr. Jeanne Nienaber Clarke, Professor at University of Arizona;

Dr. Nathan L. Stevenson, U.S. Geological Survey, U.S.D.I.;

Dr. Daniel L. Tormey, private consultant with Entrix, Inc.;

Dr. David M. Graber, National Park Service, U.S.D.I.;

Dr. Douglas D. Piirto, California Polytechnic State University at San Luis Obispo; and A Tule River Indian Tribe Representative.

Dated: May 17, 2001.
Juliet B. Allen,
Acting Forest Supervisor, Sequoia National Forest.

[FR Doc. 01-13126 Filed 5-23-01; 8:45 am]

BILLING CODE 3410-11-M